DEPARTMENT OF TRANSPORTATION

Federal Aviation Administration

14 CFR Part 39

[Docket No. FAA-2024-2717; Project Identifier MCAI-2024-00147-T; Amendment 39-23011; AD 2025-07-09]

RIN 2120-AA64

Airworthiness Directives; Bombardier, Inc., Airplanes

AGENCY: Federal Aviation Administration (FAA), DOT.

ACTION: Final rule.

SUMMARY: The FAA is superseding Airworthiness Directive (AD) 2020-19-13, which applied to certain Bombardier, Inc., Model CL-600-1A11 (600), CL-600-2A12 (601), and CL-600-2B16 (601-3A, 601-3R, and 604 Variants) airplanes. AD 2020-19-13 required a check to identify the manufacturer and part number of the portable oxygen bottle installation, and, if necessary, modification of the portable oxygen bottle installation. This AD continues to require the actions specified in AD 2020-19-13 and expands the applicability. This AD was prompted by a report indicating that the portable oxygen bottle installation's upper bracket latch assembly can catch on the pressure gauge tube or on the pressure gauge bezel of the portable oxygen bottle. This AD was also prompted by the determination that additional airplanes may be subject to the unsafe condition. The FAA is issuing this AD to address the unsafe condition on these products.

DATES: This AD is effective July 2, 2025.

The Director of the Federal Register approved the incorporation by reference of certain publications listed in this AD as of July 2, 2025.

ADDRESSES:

AD Docket: You may examine the AD docket at regulations.gov under Docket No. FAA-2024-2717; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2024-2717.

FOR FURTHER INFORMATION CONTACT: Brenda Buitrago, Aviation Safety Engineer, FAA, 1600 Stewart Avenue, Suite 410, Westbury, NY 11590; telephone 516-228-7300; email n.

SUPPLEMENTARY INFORMATION:

Background

The FAA issued a notice of proposed rulemaking (NPRM) to amend 14 CFR part 39 to supersede AD 2020-19-13, Amendment 39-21256 (85 FR 60887, dated September 29, 2020) (AD 2020-19-13). AD 2020-19-13 applied to certain Bombardier, Inc., Model CL-600-1A11 (600), CL-600-2A12 (601), and CL-600-2B16 (601-3A, 601-3R, and 604 Variants) airplanes. AD 2020-19-13 required a check to identify the manufacturer and part number of the portable oxygen bottle installation, and, if necessary, modification of the portable oxygen bottle installation. The FAA issued AD 2020-19-13 to address the portable oxygen bottle installation's upper bracket latch assembly catching on the pressure gauge bezel of the portable oxygen bottle, which could prevent fast and easy access to the portable oxygen bottle in an emergency situation.

The NPRM published in the Federal Register on December 31, 2024 (89 FR 107069). The NPRM was prompted by AD CF-2024-09, dated February 29, 2024, issued by Transport Canada, which is the aviation authority for Canada (Transport Canada AD CF-2024-09) (also referred to as the MCAI). The MCAI states four Model CL-600-2B16 airplanes have been added to the applicability.

In the NPRM, the FAA proposed to continue to require the actions specified in AD 2020-19-13. In the NPRM, the FAA also proposed to add airplanes to the applicability. The FAA is issuing this AD to address the unsafe condition on these products.

You may examine the MCAI in the AD docket at regulations.gov under Docket No. FAA-2024-2717.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

The FAA reviewed the following material:

• Bombardier Service Bulletin 600-0772, Revision 01, dated June 28, 2023;

• Bombardier Service Bulletin 601-0646, Revision 01, dated June 28, 2023;

• Bombardier Service Bulletin 604-35-006, Revision 01, dated June 28, 2023;

• Bombardier Service Bulletin 605-35-005, Revision 01, dated June 28, 2023; and

• Bombardier Service Bulletin 650-35-001, Revision 01, dated June 28, 2023.

This material specifies procedures for a check to identify the manufacturer and part number of the portable oxygen bottle installation, and, if necessary, modification of the portable oxygen bottle installation. These documents are distinct since they apply to different airplane models/configurations.

This material is reasonably available because the interested parties have access to it through their normal course of business or by the means identified in the ADDRESSES section.

Costs of Compliance

The FAA estimates that this AD affects 192 airplanes of U.S. registry.

Estimated Costs for Required Actions
Labor cost | Parts cost | Cost per product | Cost on U.S. operators
3 work-hours × $85 per hour = $255 | $1,530 | $1,785 | $342,720

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-19-13, Amendment 39-21256 (85 FR 60887, September 29, 2020); and

b. Adding the following new AD:

2025-07-09 Bombardier, Inc.: Amendment 39-23011; Docket No. FAA-2024-2717; Project Identifier MCAI-2024-00147-T.

(a) Effective Date

This airworthiness directive (AD) is effective July 2, 2025.

(b) Affected ADs

This AD replaces AD 2020-19-13, Amendment 39-21256 (85 FR 60887, September 29, 2020) (AD 2020-19-13).

(c) Applicability

This AD applies to Bombardier, Inc., airplanes, identified in paragraphs (c)(1) through (3), certificated in any category, equipped with Scott (Avox/Zodiac) 5500 or 5600 series 11 cubic foot portable oxygen bottle(s) with upper bracket part number (P/N) 36758-02, P/N 36758-12 or P/N H3-2091-1 installed at the neck of the bottle(s).

(1) Model CL-600-1A11 (600) airplanes, serial numbers (S/Ns) 1004 through 1085 inclusive.

(2) Model CL-600-2A12 (601) airplanes, serial numbers 3001 through 3066 inclusive.

(3) Model CL-600-2B16 (601-3A, 601-3R, and 604 Variants) airplanes, serial numbers 5001 through 5194 inclusive, 5301 through 5665 inclusive, 5701 through 5988 inclusive, 6050 through 6119 inclusive, 6158, 6161, 6176, and 6181.

(d) Subject

Air Transport Association (ATA) of America Code 35, Oxygen.

(e) Unsafe Condition

This AD was prompted by a report indicating that the portable oxygen bottle installation's upper bracket latch assembly can catch on the pressure gauge tube or on the pressure gauge bezel of the portable oxygen bottle. This AD was also prompted by the determination that four additional Model CL-600-2B16 airplanes may be subject to the unsafe condition. The FAA is issuing this AD to address the unsafe condition, which, if not addressed, could prevent fast and easy access to the portable oxygen bottle in an emergency situation.

(f) Compliance

Comply with this AD within the compliance times specified, unless already done.

(g) Retained Check for Airplanes, With Revised Figure Reference and Revised Service Information

This paragraph restates the requirements of paragraph (g) of AD 2020-19-13, with revised figure reference and revised service information. For airplanes with a serial number listed in Section 1.A. of the applicable Bombardier service information specified in figure 1 to paragraph (g) of this AD, except airplane S/Ns 6158, 6161, 6176, and 6181: Within 60 months after November 3, 2020 (the effective date of AD 2020-19-13), check each portable oxygen bottle installation to determine the manufacturer and P/N, in accordance with paragraph 2.B. of the Accomplishment Instructions of the applicable Bombardier service information specified in figure 1 to paragraph (g) of this AD.

Figure 1 to Paragraph (g)—Service Information References

(h) Retained Bracket Modification, With Specified Compliance Time

This paragraph restates the requirements of paragraph (h) of AD 2020-19-13, with a specified compliance time. If, during the inspection specified in paragraph (g) of this AD, any portable oxygen bottle is found to be manufactured by Scott (Avox/Zodiac) and is a 5500 or 5600 series 11 cubic foot bottle, with upper bracket P/N 36758-02, 36758-12, or H3-2091-1 installed at the neck of the bottle: Within 60 months after November 3, 2020 (the effective date of AD 2020-19-13), modify the portable oxygen bottle brackets in accordance with paragraph 2.C. of the Accomplishment Instructions of the applicable Bombardier service information specified in figure 1 to paragraph (g) of this AD.

(i) Retained Check for Airplanes Not Listed in the Service Information, With Revised Figure Reference and Revised Service Information

This paragraph restates the requirements of paragraph (i) of AD 2020-19-13, with a revised figure reference and revised service information. For airplanes with a serial number that is not listed in section 1.A. of the applicable Bombardier service information specified in figure 1 to paragraph (g) of this AD, within 60 months after November 3, 2020 (the effective date of AD 2020-19-13), check each portable oxygen bottle installation to determine the manufacturer and part number and accomplish corrective actions in accordance with the procedures specified in paragraph (l)(1) of this AD.

(j) New Check Requirement for Added Airplanes

For airplane S/Ns 6158, 6161, 6176, and 6181: Within 60 months after the effective date of this AD, check each portable oxygen bottle installation to determine the manufacturer and part number and accomplish corrective actions in accordance with the procedures specified in paragraph (l)(1) of this AD.

(k) Credit for Previous Actions

This paragraph provides credit for actions required by paragraphs (g) and (h) of this AD, if those actions were performed before the effective date of this AD using the applicable material specified in paragraphs (k)(1) through (5) of this AD.

(1) Bombardier Service Bulletin 600-0772, dated June 29, 2018;

(2) Bombardier Service Bulletin 601-0646, dated June 29, 2018;

(3) Bombardier Service Bulletin 604-35-006, dated June 29, 2018;

(4) Bombardier Service Bulletin 605-35-005, dated June 29, 2018; and

(5) Bombardier Service Bulletin 650-35-001, dated June 29, 2018.

(l) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (m)(1) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier's Transport Canada Design Approval Organization (DAO). If approved by the DAO, the approval must include the DAO-authorized signature.

(m) Additional Information

(1) For more information about this AD, contact Brenda Buitrago, Aviation Safety Engineer, FAA, 1600 Stewart Avenue, Suite 410, Westbury, NY 11590; telephone 516-228-7300; email 9-avs-nyaco-cos@faa.gov.

(2) Material identified in this AD that is not incorporated by reference is available at the address specified in paragraph (n)(3) of this AD.

(n) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Bombardier Service Bulletin 600-0772, Revision 01, dated June 28, 2023.

(ii) Bombardier Service Bulletin 601-0646, Revision 01, dated June 28, 2023.

(iii) Bombardier Service Bulletin 604-35-006, Revision 01, dated June 28, 2023.

(iv) Bombardier Service Bulletin 605-35-005, Revision 01, dated June 28, 2023.

(v) Bombardier Service Bulletin 650-35-001, Revision 01, dated June 28, 2023.

(3) For Bombardier material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on April 3, 2025.
Steven W. Thompson,
Acting Deputy Director, Compliance & Airworthiness Division, Aircraft Certification Service.

[FR Doc. 2025-09507 Filed 5-27-25; 8:45 am]

BILLING CODE 4910-13-P